DEPARTMENT OF JUSTICE

[AAG/A Order No. 299-2002]

Privacy Act of 1974; System of Records

Pursuant to the provisions of the Privacy Act of 1974 (5 U.S.C. 552a), notice is hereby given that the Department of Justice proposes to establish a new system of records to be maintained by the Immigration and Naturalization Service (INS). The Refugee Access Verification Unit Records (RAVU), JUSTICE/INS-006, is a new system of records for which no public notice consistent with the provisions of 5 U.S.C. 552a (e)(4) and (11) has been published.

In accordance with 5 U.S.C. 552a(e)(4) and (11), the public is given a 30-day period in which to comment on proposed new routine use disclosures. The Office of Management and Budget (OMB), which has oversight responsibility under the Act, requires a 40-day period in which to conclude its review of the system. Therefore, please submit any comments by (insert date 30 days from the publication date of this notice). The public, OMB, and the Congress are invited to submit any comments to Mary Cahill, Management Analyst, Management and Planning Staff, Justice Management Division, Department of Justice, Washington, DC 20530 (Room 1400, National Place Building).

In accordance with 5 U.S.C. 552a(r), the Department has provided a report to OMB and the Congress on this system.

Dated: December 13, 2002.
Paul R. Corts,
Assistant Attorney General for Administration.

Justice/INS-006

System Name:

Refugee Access Verification Unit Records (RAVU).

System Location:

The system is accessible only to the Refugee Branch at the Office of International Affairs, Immigration and Naturalization Service (INS), 425 I Street NW., Second Floor, Union Labor Life Building, Washington, DC 20536. The location may change at the discretion of and depending on the needs of the INS.

Categories of Individuals Covered by the System:

(Please note: The system description pertains to refugees. However, this notice is designed to cover only United States citizens (USCs) and lawful permanent residents (LPRs) who are included in this information system.)

(1) Refugee applicants with priority three (P3) and priority four (P4) status, who are conditionally approved for refugee resettlement but have not yet traveled to the United States;

(2) P3 and P4 refugee applicants who have not yet received a refugee classification interview by INS; and

(3) Anchor relatives (i.e., lawful permanent residents and/or United States citizen relatives) in the United States who have filed an Affidavit of Relationship (AOR) on behalf of a refugee applicant overseas under the P3 and P4 worldwide processing priorities.

Categories of Records in the System:

This system contains copies of refugee applications and interview worksheets, INS applications and related forms, affidavits of relationship, AOR review checklists and decision notices; biographic and demographic information such as family trees and documents of identity, communications from voluntary agencies, Members of Congress, U.S. Government agencies, and international organizations; and biographic and demographic information stored electronically such as anchor name and address, applicant name, voluntary agency and decision.

Authority for Maintenance of the System:

8 U.S.C. 1522(b) (Authorization for Programs for Initial Domestic Resettlement of and Assistance to Refugees) and 22 U.S.C. 1157 (Annual Admission of Refugees and Admission of Emergency Situation Refugees).

Purposes:

To create a system of records for storing and reporting the results of the AOR review mandated by the Homeland Security Council.

Routine Uses of Records Maintained in the System Including Categories of Users and Purpose of Such Uses:

A. To the appropriate agency/organization/task force, regardless of whether it is federal, state, local, foreign, or tribal, charged with the enforcement (e.g., investigation and prosecution) of a law (criminal or civil), regulation, or treaty, of any record contained in this system of records which indicates either on its face, or in conjunction with other information, a violation or potential violation of that law, regulation, or treaty.

B. To an attorney or representative who is acting on behalf of an individual covered by this system of records (as defined in 8 CFR 1.1(j)) in conjunction with any proceeding before the Immigration and Naturalization Service or the Executive Office for Immigration Review.

C. To the news media and the public pursuant to 28 CFR 50.2 unless it is determined that release of the specific information in the context of a particular case would constitute an unwarranted invasion of personal privacy.

D. To a Member of Congress, or staff acting upon the Member's behalf, when the Member or staff requests the information on behalf of and at the request of the individual who is the subject of the record.

E. To the General Services Administration (GSA) and the National Archives and Records Administration (NARA) in records management inspections conducted under the authority of 44 U.S.C. 2904 and 2906.

F. To contractors, grantees, experts, consultants, students, and others performing or working on a contract, service, grant, cooperative agreement, or other assignment for the Federal Government, when necessary to accomplish an agency function related to this system of records.

G. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Storage:

Records are stored in electronic media and printed copies.

Retrievability:

By case number, alien number, and applicant name.

Safeguards:

All records containing personal information are maintained in secured file cabinets or in restricted areas, access to which is limited to authorized personnel of the INS. Where the records are computerized, access is under the direct supervision of the system manager.

Retention and Disposal:

The following INS proposal for retention and disposal is pending approval by NARA

RAVU electronic records will be maintained on a desktop computer for two years and then transferred to CD-ROM, where they will be maintained for 18 years before destruction. RAVU case files will be maintained for two years and then destroyed.

System Manager (s) and Address:

Director, Refugee Branch, Office of International Affairs, 111 Massachusetts Avenue, Second Floor, Washington, DC 20536.

Notification Procedure:

Individuals who have reason to believe the Immigration and Naturalization Service might have Refugee Access Verification Unit Records pertaining to themselves should write to the System Manager identified above. The individual must specify that he/she requests RAVU records to be checked regarding a specific affidavit of relationship. At a minimum, the individual must include: name, date and place of birth, his/her INS “A” number, current mailing address and zip code, names of relatives petitioned for on the affidavit of relationship, and a notarized signature or pursuant to 28 U.S.C. 1746, make a dated statement under penalty of perjury as a substitute for notarization.

Records Access Procedure:

Make all requests for access in writing to the Freedom of Information Act/Privacy Act Office at 425 I Street NW, Second Floor, Union Labor Life Building, Washington, DC 20536, or to the System Manager noted above. Clearly mark the envelope and letter “Privacy Act Request.” The requester must specify that he/she requests RAVU records to be checked regarding a specific affidavit of relationship. At a minimum, the requester must include: name, date and place of birth, his/her INS “A” number, current mailing address and zip code, names of relatives petitioned for on the affidavit of relationship, and a notarized signature or pursuant to 28 U.S.C. 1746, make a dated statement under penalty of perjury as a substitute for notarization.

Contesting Records Procedures:

Direct all requests to contest or amend information in the record to the FOIA/PA Officer at the address identified above. State clearly and concisely the information being contested, the reason for contesting it, and the proposed amendment thereof. Clearly mark the envelope “Privacy Act Request.” The record must be identified in the same manner as described for making a request for access.

Record Source Categories:

These records contain information obtained directly from the individual who is the subject of these records as well as relatives, sponsors, Members of Congress, U.S. Government agencies, voluntary agencies, international organizations, and local sources at overseas posts.

Systems Exempted From Certain Provisions of the Act:

None.

[FR Doc. 02-32538 Filed 12-24-02; 8:45 am]

BILLING CODE 4410-10-P